DEPARTMENT OF TRANSPORTATION

Federal Aviation Administration

14 CFR Part 71

[Docket No. FAA-2023-1026; Airspace Docket No. 23-AGL-7]

RIN 2120-AA66

Amendment of Multiple Air Traffic Service (ATS) Routes and Establishment of Area Navigation (RNAV) Route T-478 in the Vicinity of Danville, IL

AGENCY: Federal Aviation Administration (FAA), DOT.

ACTION: Final rule.

SUMMARY: This action amends Jet Route J-84, United States Area Navigation (RNAV) route Q-42, and Very High Frequency Omnidirectional Range (VOR) Federal airways V-171 and V-251, and establishes United States RNAV route T-478. The FAA is taking this action due to the planned decommissioning of the VOR portion of the Danville, IL (DNV), VOR/Tactical Air Navigation (VORTAC) navigational aid (NAVAID). The Danville VOR is being decommissioned in support of the FAA's VOR Minimum Operational Network (MON) program.

DATES: Effective date 0901 UTC, January 25, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published a notice of proposed rulemaking for Docket No. FAA-2023-1026 in the Federal Register (88 FR 29573; May 8, 2023), proposing to amend Jet Route J-84, United States RNAV route Q-42, and VOR Federal airways V-171 and V-251, and establish United States RNAV route T-478 due to the planned decommissioning of the VOR portion of the Danville, IL, VORTAC NAVAID. Interested parties were invited to participate in this rulemaking effort by submitting written comments on the proposal. No comments were received.

Differences From the NPRM

Concurrent with the NPRM, the FAA published a final rule for Docket No. FAA-2022-1586 in the Federal Register (88 FR 31607; May 18, 2023), amending VOR Federal airway V-171 by removing the airway segment between the Grand Forks, ND, VOR/Distance Measuring Equipment (VOR/DME) and the Roseau, MN, VOR/DME. That airway amendment, effective August 10, 2023, is included in this rule.

Additionally, subsequent to the NPRM, the FAA determined the STRUK, IL, waypoint (WP) listed in the Q-42 description is not required to be included in the part 71 description of Q-42. The WP is not a beginning or end point of Q-42, is not a point where the route changes one degree or more, is not used as a holding fix, and is not required as the maximum distance allowed between NAVAIDs, fixes, or WPs is not exceeded. As such, this rule removes the STRUK, IL, WP from the Q-42 part 71 description. This is an editorial change only and does not alter the alignment of the Q-42 route.

Finally, in the NPRM, the RIVRS, IL, route point listed in the T-478 description was incorrectly referenced and listed as a Fix. The RIVRS, IL, Fix was updated in the National Airspace System Resource (NASR) database prior to publication of the NPRM and is now described as a WP. This rule corrects that error and lists the RIVRS route point as a WP. This is an editorial change only to match the FAA's NASR database information and does not alter the alignment of the T-478 route.

Incorporation by Reference

Jet Routes are published in paragraph 2004, United States RNAV Routes (Q-routes) are published in paragraph 2006, VOR Federal airways are published in paragraph 6010(a), and United States RNAV Routes (T-routes) are published in paragraph 6011 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. This amendment action will be published in the next update to FAA Order JO 7400.11.

FAA Order JO 7400.11H lists Class A, B, C, D, and E airspace areas, air traffic service routes, and reporting points.

The Rule

This action amends 14 CFR part 71 by amending Jet Route J-84, United States RNAV route Q-42, and VOR Federal airways V-171 and V-251, and establishing United States RNAV route T-478. This action is due to the planned decommissioning of the VOR portion of the Danville, IL, VORTAC. The ATS route actions are described below.

J-84: Prior to this final rule, J-84 extended between the Oakland, CA, VOR/DME and the Sidney, NE, VOR/DME; and between the Dubuque, IA, VORTAC and the Danville, IL, VORTAC. The route segment between the Northbrook, IL, VOR/DME and the Danville, IL, VORTAC is removed. As amended, the route now extends between the Oakland VOR/DME and the Sidney VOR/DME and between the Dubuque VORTAC and the Northbrook VOR/DME.

Q-42: Prior to this final rule, Q-42 extended between the Kirksville, MO, VORTAC and the ZIMMZ, PA, Fix. The Kirksville VORTAC route point is replaced with the LEWRP, MO, WP; the Danville, IL, VORTAC route point is replaced with the LCOLN, IL, WP; and the Muncie, IN, VOR/DME route point is replaced with the SNKPT, IN, WP. Editorial corrections are made to the state abbreviation and the type of route point for the ZIMMZ Fix to match the NASR database information. As amended, the route now extends between the LEWRP WP and the ZIMMZ Fix.

V-171: Prior to this final rule, V-171 extended between the Lexington, KY, VOR/DME and the Joliet, IL, VOR/DME; and between the Nodine, MN, VORTAC and the Grand Forks, ND, VOR/DME. The airway segment between the Terre Haute, IN, VORTAC and the Peotone, IL, VORTAC is removed. As amended, the airway now extends between the Lexington VOR/DME and the Terre Haute VORTAC, between the Peotone VORTAC and the Joliet VOR/DME, and between the Nodine VORTAC and the Grand Forks VOR/DME.

V-251: Prior to this final rule, V-251 extended between the Adders, IL, VORTAC and the Boiler, IN, VORTAC. The airway segment between the Champaign, IL, VORTAC and the Boiler, IN, VORTAC is removed. As amended, the airway now extends between the Adders VORTAC and the Champaign VORTAC.

T-478: T-478 is a new RNAV route established between the RIVRS, MO, WP located northeast of Bolling Green, MO, and the BOLRR, IN, WP located near the Boiler, IN, VORTAC. This new T-route mitigates the removal of the V-251 airway segment addressed above between the Champaign, IL, VORTAC and the Lafayette, IN, area to mitigate the removal of the V-251 airway segment addressed above and provides non-radar routing between the RIVRS WP and the Champaign VORTAC, when needed.

All NAVAID radials listed in the VOR Federal airway V-171 description below are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending Jet Route J-84, United States RNAV route Q-42, and VOR Federal airways V-171 and V-251, and establishes United States RNAV route T-478, due to the planned decommissioning of the VOR portion of the Danville, IL, VOR/DME NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5i, which categorically excludes from further environmental impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2004 Jet Routes.

* * * * *

J-84 [Amended]

From Oakland, CA; Linden, CA; Mina, NV; Delta, UT; Meeker, CO; to Sidney, NE. From Dubuque, IA; to Northbrook, IL.

* * * * *

Paragraph 2006 United States Area Navigation Routes.

* * * * *

Q-42 LEWRP, MO to ZIMMZ, PA [Amended]
LEWRP, MO | WP | (Lat. 40°08′06.06″ N, long. 092°35′30.15″ W)
LCOLN, IL | WP | (Lat. 40°17′37.55″ N, long. 087°33′25.36″ W)
SNKPT, IN | WP | (Lat. 40°14′13.96″ N, long. 085°23′39.21″ W)
HIDON, OH | WP | (Lat. 40°10′00.00″ N, long. 081°37′27.00″ W)
BUBAA, OH | WP | (Lat. 40°10′27.00″ N, long. 080°58′17.00″ W)
PSYKO, PA | WP | (Lat. 40°08′37.00″ N, long. 079°09′13.00″ W)
BRNAN, PA | WP | (Lat. 40°08′07.00″ N, long. 077°50′06.70″ W)
HOTEE, PA | WP | (Lat. 40°20′36.00″ N, long. 076°29′37.00″ W)
SPOTZ, PA | WP | (Lat. 40°45′55.00″ N, long. 075°22′59.00″ W)
ZIMMZ, PA | FIX | (Lat. 40°48′11.00″ N, long. 075°07′25.00″ W)

* * * * *

Paragraph 6010(a) Domestic VOR Federal Airways.

* * * * *

V-171 [Amended]

From Lexington, KY; INT Lexington 251° and Louisville, KY, 114° radials; Louisville; to Terre Haute, IN. From Peotone, IL; INT Peotone 281° and Joliet, IL, 173° radials; to Joliet. From Nodine, MN; INT Nodine 298° and Farmington, MN, 124° radials; Farmington; Darwin, MN; Alexandria, MN; INT Alexandria 321° and Grand Forks, ND, 152° radials; to Grand Forks.

* * * * *

V-251 [Amended]

From Adders, IL; to Champaign, IL.

* * * * *

Paragraph 6011 United States Area Navigation Routes.

* * * * *

T-478 RIVRS, IL to BOLRR, IN [New]
RIVRS, IL | WP | (Lat. 39°25′21.41″ N, long. 090°55′56.70″ W)
Spinner, IL (SPI) | VORTAC | (Lat. 39°50′23.04″ N, long. 089°40′39.85″ W)
Champaign, IL (CMI) | VORTAC | (Lat. 40°02′04.31″ N, long. 088°16′33.87″ W)
SLONI, IL | WP | (Lat. 40°11′06.39″ N, long. 087°55′15.88″ W)
LCOLN, IL | WP | (Lat. 40°17′37.55″ N, long. 087°33′25.36″ W)
BOLRR, IN | WP | (Lat. 40°33′22.03″ N, long. 087°04′09.55″ W)

* * * * *

Issued in Washington, DC, on October 27, 2023.
Karen L. Chiodini,
Acting Manager, Rules and Regulations Group.

[FR Doc. 2023-24076 Filed 11-2-23; 8:45 am]

BILLING CODE 4910-13-P